ENVIRONMENTAL PROTECTION AGENCY

[EPA-HQ-ORD-2015-0287; FRL-9926-96-ORD]

Stormwater Management in Response to Climate Change Impacts: Lessons From the Chesapeake Bay and Great Lakes Regions

AGENCY: Environmental Protection Agency (EPA).

ACTION: Notice of public comment period and letter peer review.

SUMMARY: The Environmental Protection Agency (EPA) is announcing a 30-day public comment period for the draft document titled, “Stormwater Management in Response to Climate Change Impacts: Lessons from the Chesapeake Bay and Great Lakes Regions” (EPA/600/R-15/087). EPA is also announcing that Versar, Inc., an EPA contractor for external scientific peer review, will select three independent experts from a pool of six to conduct a letter peer review of the same draft document. The document was prepared by the National Center for Environmental Assessment within EPA's Office of Research and Development. This document describes insights gained from a series of EPA and National Oceanic and Atmospheric Administration (NOAA) sponsored workshops with communities in the Chesapeake Bay and Great Lakes regions to address climate change in stormwater adaptation efforts.

EPA intends to forward the public comments that are submitted in accordance with this document to the external peer reviewers for their consideration during the letter peer review. When finalizing the draft documents, EPA intends to consider any public comments received in response to this notice. EPA is releasing this draft document for the purposes of public comment and peer review. This draft document is not final as described in EPA's information quality guidelines and does not represent and should not be construed to represent Agency policy or views.

The draft document is available via the Internet on EPA's Risk Web page under the Recent Additions at http://www.epa.gov/risk.

DATES: The 30-day public comment period begins October 7, 2015, and ends November 6, 2015. Technical comments should be in writing and must be received by EPA by November 6, 2015.

ADDRESSES: The draft document, “Stormwater Management in Response to Climate Change Impacts: Lessons from the Chesapeake Bay and Great Lakes Regions,” is available primarily via the Internet on the EPA's Risk Web page under the Recent Additions at http://www.epa.gov/risk. A limited number of paper copies are available from the Information Management Team, NCEA; telephone: 703-347-8561; facsimile: 703-347-8691. If you are requesting a paper copy, please provide your name, mailing address, and the document title.

Comments may be submitted electronically via http://www.regulations.gov, by mail, by facsimile, or by hand delivery/courier. Please follow the detailed instructions provided in the SUPPLEMENTARY INFORMATION section of this notice.

FOR FURTHER INFORMATION CONTACT: For information on the public comment period, contact the Office of Environmental Information Docket; telephone: 202-566-1752; facsimile: 202-566-9744; or email: Docket_ORD@epa.gov.

For technical information, contact Susan Julius, NCEA; telephone: 703-347-8619; facsimile: 703-347-8694; or email: julius.susan@epa.gov.

SUPPLEMENTARY INFORMATION:

I. Information About the Project/Document

Water resources in the United States are affected by a number of climate stressors, including increasing temperatures, changing precipitation patterns, and extreme events. These changing conditions have implications for stormwater management as local decision makers look to improve existing infrastructure and build new stormwater systems. EPA and NOAA have conducted a number of workshops and other community efforts in cities and counties within the Chesapeake Bay and Great Lakes regions to initiate conversations about how projected land use and climate change could impact local water conditions and how adaptation (resiliency) planning can fit into decision-making processes to help meet existing goals. These conversations provided insights into the kinds of information that enable and facilitate communities' incorporation of climate change into local planning and decision making for stormwater management. The report reviews lessons learned from these adaptation planning experiences, including locally identified barriers to addressing climate change, methods to overcome barriers in the short term, and long term information needs to further assist communities in their stormwater adaptation efforts.

II. How To Submit Technical Comments to the Docket at http://www.regulations.gov

Submit your comments, identified by Docket ID No. EPA-HQ-ORD 2015-0287, by one of the following methods:

• http://www.regulations.gov: Follow the on-line instructions for submitting comments.

• Email: Docket_ORD@epa.gov.

• Fax: 202-566-9744.

• Mail: Office of Environmental Information (OEI) Docket (Mail Code: 28221T), U.S. Environmental Protection Agency, 1200 Pennsylvania Avenue NW., Washington, DC 20460. The phone number is 202-566-1752. If you provide comments by mail, please submit one unbound original with pages numbered consecutively, and three copies of the comments. For attachments, provide an index, number pages consecutively with the comments, and submit an unbound original and three copies.

• Hand Delivery: The OEI Docket is located in the EPA Headquarters Docket Center, EPA West Building, Room 3334, 1301 Constitution Avenue NW., Washington, DC. The EPA Docket Center's Public Reading Room is open from 8:30 a.m. to 4:30 p.m., Monday through Friday, excluding legal holidays. The telephone number for the Public Reading Room is 202-566-1744. Deliveries are only accepted during the docket's normal hours of operation, and special arrangements should be made for deliveries of boxed information. If you provide comments by hand delivery, please submit one unbound original with pages numbered consecutively, and three copies of the comments. For attachments, provide an index, number pages consecutively with the comments, and submit an unbound original and three copies.

Instructions: Direct your comments to Docket ID No. EPA-HQ-ORD-2015-0287. Please ensure that your comments are submitted within the specified comment period. Comments received after the closing date will be marked “late,” and may only be considered if time permits. It is EPA's policy to include all comments it receives in the public docket without change and to make the comments available online at http://www.regulations.gov, including any personal information provided, unless a comment includes information claimed to be Confidential Business Information (CBI) or other information whose disclosure is restricted by statute. Do not submit information that you consider to be CBI or otherwise protected through http://www.regulations.gov or email. The http://www.regulations.gov Web site is an “anonymous access” system, which means EPA will not know your identity or contact information unless you provide it in the body of your comment. If you send an email comment directly to EPA without going through http://www.regulations.gov, your email address will be automatically captured and included as part of the comment that is placed in the public docket and made available on the Internet. If you submit an electronic comment, EPA recommends that you include your name and other contact information in the body of your comment and with any disk or CD-ROM you submit. If EPA cannot read your comment due to technical difficulties and cannot contact you for clarification, EPA may not be able to consider your comment. Electronic files should avoid the use of special characters, any form of encryption, and be free of any defects or viruses. For additional information about EPA's public docket visit the EPA Docket Center home page at http://www.epa.gov/epahome/dockets.htm.

Docket: Documents in the docket are listed in the http://www.regulations.gov index. Although listed in the index, some information is not publicly available, e.g., CBI or other information whose disclosure is restricted by statute. Certain other materials, such as copyrighted material, are publicly available only in hard copy. Publicly available docket materials are available either electronically at http://www.regulations.gov or in hard copy at the OEI Docket in the EPA Headquarters Docket Center.

Dated: September 30, 2015.
Mary A. Ross,
Deputy Director, National Center for Environmental Assessment.

[FR Doc. 2015-25590 Filed 10-6-15; 8:45 am]

BILLING CODE 6560-50-P